Title 3—

The President

Memorandum of February 28, 2012

Delegation of Waiver Authority Under Section 1022(a)(4) of the National Defense Authorization Act for Fiscal Year 2012

Memorandum for the Attorney General

By the authority vested in me as President by the Constitution and the laws of the United States of America, including section 301 of title 3, United States Code, I hereby delegate to you the authority conferred upon the President by section 1022(a)(4) of the National Defense Authorization Act for Fiscal Year 2012, Public Law 112-81, to waive certain requirements of the Act. You shall exercise this authority in consultation with other senior national security officials, including the Secretaries of State, Defense, Homeland Security, Director of National Intelligence, Chairman of the Joint Chiefs of Staff, Director of the Central Intelligence Agency, and Director of the Federal Bureau of Investigation, as well as any other official I may designate.

You are authorized and directed to publish this memorandum in the Federal Register.

THE WHITE HOUSE,

Washington, February 28, 2012

[FR Doc. 2012-5120

Filed 2-28-12; 2:00 pm]

Billing code 4410-19-P